DEPARTMENT OF THE INTERIOR

Bureau of Land Management

DEPARTMENT OF AGRICULTURE

Forest Service

Notice of Call for Nominations for Appointment of Primary and Alternate Representatives, Santa Rosa and San Jacinto Mountains National Monument Advisory Committee

AGENCIES: Bureau of Land Management, U.S. Department of the Interior; and Forest Service, U.S. Department of Agriculture.

ACTION: Notice of call for nominations for appointment or reappointment of primary representatives, and appointment or reappointment of alternate representatives to occupy various positions on the Santa Rosa and San Jacinto Mountains National Monument Advisory Committee.

SUMMARY: This notice constitutes an open call to the public to submit nomination applications for the following positions on the Santa Rosa and San Jacinto Mountains National Monument Advisory Committee:

Primary Representatives

• Representative of the City of Cathedral City; term will begin July 21, 2009 and expire July 21, 2012.

• Representative of the City of Indian Wells; term will begin July 21, 2009 and expire July 21, 2012.

• Representative of the Coachella Valley Mountains Conservancy; term will begin July 21, 2009 and expire July 21, 2012.

• Representative of the County of Riverside, California; term will begin July 21, 2009 and expire July 21, 2012.

• Representative of the Winter Park Authority; term will begin July 21, 2009 and expire July 21, 2012.

• Representative of the Agua Caliente Band of Cahuilla Indians; term will begin on the day of appointment and expire December 16, 2011.

• Representative of a local developer or builder organization; term will begin on date of appointment and expire March 16, 2010.

Alternate Representatives

• Alternate representative of the City of Cathedral City; term will begin July 21, 2009 and expire July 21, 2012.

• Alternate representative of the City of Indian Wells; term will begin July 21, 2009 and expire July 21, 2012.

• Alternate representative of the Coachella Valley Mountains Conservancy; term will begin July 21, 2009 and expire July 21, 2012.

• Alternate representative of the County of Riverside, California; term will begin July 21, 2009 and expire July 21, 2012.

• Alternate representative of the Winter Park Authority; term will begin July 21, 2009 and expire July 21, 2012.

• Alternate representative of the City of Rancho Mirage; term will begin on the day of appointment and expire December 16, 2011.

• Alternate representative of the City of Palm Desert; term will begin on the day of appointment and expire December 16, 2011.

• Alternate representative of the Pinyon Community Council; term will begin on the day of appointment and expire December 16, 2011.

• Alternate representative of a local developer or builder organization; term will begin on date of appointment and expire March 16, 2010.

• Alternate representative of the City of Palm Springs; term will begin on date of appointment and expire March 16, 2010.

• Alternate representative of the City of La Quinta; term will begin on date of appointment and expire March 16, 2010.

• Alternate representative of a local conservation organization; term will begin on date of appointment and expire March 16, 2010.

DATES: Nomination applications must be submitted to the address listed below no later than 90 days after the date of publication of this notice in the Federal Register.

ADDRESSES: Santa Rosa and San Jacinto Mountains National Monument Visitor Center, Attn: National Monument Manager, Advisory Committee Nomination Application, 51-500 Highway 74, Palm Desert, California 92260.

FOR FURTHER INFORMATION CONTACT: Jim Foote, Monument Manager, Santa Rosa and San Jacinto Mountains National Monument, telephone (760) 861-5771; e-mail jfoote@ca.blm.gov.

SUPPLEMENTARY INFORMATION: In accordance with the Santa Rosa and San Jacinto Mountains National Monument Act of 2000 (Pub. L. 106-351), the Secretary of the Interior and the Secretary of Agriculture have jointly established an advisory committee for the Santa Rosa and San Jacinto Mountains National Monument under the provisions of the Federal Advisory Committee Act. The purpose of the National Monument Advisory Committee (MAC) is to advise the Secretaries with respect to preparation and implementation of the National Monument Management Plan.

The MAC holds public meetings at least once per year. The Designated Federal Official (DFO), or his/her designee, may convene additional meetings as necessary. All MAC members are volunteers serving without pay, but will be reimbursed for travel and per diem expenses at the current rates for government employees in accordance with 5 U.S.C. 5703, when appropriate. Members of the MAC may be reappointed upon expiration of the member's current term.

All applicants must be citizens of the United States. Members are appointed by the Secretary of the Interior with concurrence by the Secretary of Agriculture. Applicants must be qualified through education, training, knowledge, or experience to give informed advice regarding an industry, discipline, or interest to be represented.

There is no limit to the number of nomination applications which may be submitted for each open position. Current MAC appointees may submit an updated nomination application for reappointment. Any individual may nominate himself or herself for appointment. Completed nomination applications should include letters of reference and/or recommendations from the represented interests or organizations, and any other information explaining the nominee's qualifications (e.g., resume, curriculum vitae).

Nomination application packages are available at the Santa Rosa and San Jacinto Mountains National Monument Visitor Center, 51-500 Highway 74, Palm Desert, California; through the Santa Rosa and San Jacinto Mountains National Monument Web page at http://www.blm.gov/ca/st/en/fo/palmsprings/santarosa/mac_nominations.html; via telephone request at (760) 862-9984; by written request from the Santa Rosa and San Jacinto Mountains National Monument Manager at the following address: Santa Rosa and San Jacinto Mountains National Monument Visitor Center, Attn: National Monument Manager, Advisory Committee Nomination Application Request, 51-500 Highway 74, Palm Desert, California 92260; or through an e-mail request at jfoote@ca.blm.gov.

Each application package includes forms from the U.S. Department of the Interior and U.S. Department of Agriculture. All submitted nomination applications become the property of the Department of the Interior, Bureau of Land Management, Santa Rosa and San Jacinto Mountains National Monument, and will not be returned. Nomination applications are good only for the current open public call for nominations.

John R. Kalish,
Field Manager, Palm Springs-South Coast Field Office, California Desert District, Bureau of Land Management.
Laurie Rosenthal,
District Ranger, San Jacinto Ranger District, San Bernardino National Forest, U.S. Forest Service.

[FR Doc. E8-28838 Filed 12-4-08; 8:45 am]

BILLING CODE 4310-11-P